DEPARTMENT OF HOMELAND SECURITY

Transportation Security Administration

Reports, Forms, and Recordkeeping Requirements: Agency Information Collection Activity Under OMB Review; Screener Medical Questionnaire

AGENCY: Transportation Security Administration (TSA), DHS.

ACTION: Notice.

SUMMARY: This notice announces that TSA has forwarded the Information Collection Request (ICR) abstracted below to the Office of Management and Budget (OMB) for review and clearance under the Paperwork Reduction Act. The ICR describes the nature of the information collection and its expected burden. TSA published a Federal Register notice, with a 60-day comment period soliciting comments, of the following collection of information on November 22, 2004, 69 FR 67933.

DATES: Send your comments by April 7, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220; telephone (571) 227-1995; facsimile (571) 227-2594.

SUPPLEMENTARY INFORMATION:

Transportation Security Administration (TSA)

Title: Transportation Security Screener Medical Questionnaire.

Type of Request: New Collection.

OMB Control Number: Not yet assigned.

Form(s): Screener Medical Questionnaire.

Affected Public: Candidates under employment consideration for Transportation Security Screener positions.

Abstract: This collection of information will assist the agency in ensuring that candidates under employment consideration for Transportation Security Screener positions meet the qualification standards to successfully perform the functions of the positions. Information is collected through a medical questionnaire. TSA deems this collection necessary to evaluate a candidate's aptitude and physical abilities, including color perception, visual and aural acuity, physical coordination and motor skills to be able to: (a) Distinguish on screening equipment monitors the appropriate imaging standard; (b) distinguish each color displayed on every type of screening equipment and explain what each color signifies; (c) hear and respond to the spoken voice and to audible alarms in an active checkpoint environment; (d) perform physical searches by efficiently and thoroughly manipulating and handling baggage containers, and other objects; (e) perform pat-downs or hand-held metal detector searches of individuals with sufficient dexterity and capacity to thoroughly conduct the procedures over an individual's entire body; and (f) demonstrate a daily fitness for duty without impairment due to illegal drugs, sleep deprivation, medication, or alcohol.

Number of Respondents: 38,052 annually.

Estimated Annual Burden Hours: 11,430 hours.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on March 3, 2005.
Lisa S. Dean,
Privacy Officer.

[FR Doc. 05-4403 Filed 3-7-05; 8:45 am]

BILLING CODE 4910-62-P